DEPARTMENT OF COMMERCE

International Trade Administration

[C-533-884]

Glycine From India: Final Results of Countervailing Duty Administrative Review; 2018-2019

AGENCY: Enforcement and Compliance, International Trade Administration, Department of Commerce.

SUMMARY: The Department of Commerce (Commerce) determines that countervailable subsidies are being provided to producers and exporters of glycine from India during the period of review (POR), September 4, 2018, through December 31, 2019.

DATES: Applicable January 19, 2022.

FOR FURTHER INFORMATION CONTACT: Davina Friedmann, AD/CVD Operations, Office VI, Enforcement and Compliance, International Trade Administration, U.S. Department of Commerce, 1401 Constitution Avenue NW, Washington, DC 20230; telephone: (202) 482-0698.

SUPPLEMENTARY INFORMATION:

Background

On July 16, 2021, Commerce published the Preliminary Results of this administrative review in the Federal Register.¹ On October 21, 2021, Commerce extended the final results of review by 60 days, until January 12, 2022.² On November 16, 2021, Commerce issued a post-preliminary decision.³ We invited parties to comment on the Preliminary Results and on the Post-Preliminary Decision. On November 29 and 30, 2021, case briefs were timely filed by GEO Specialty Chemicals, Inc. (the petitioner), Avid Organics Private Limited (Avid), and Kumar Industries, India (Kumar).⁴ On December 6, 2021, timely rebuttal briefs were submitted to Commerce by the petitioner, Avid, Kumar and Paras Intermediates Private Limited (Paras).⁵ For a full description of the events that occurred since the Preliminary Results, see the Issues and Decision Memorandum.⁶

¹ See Glycine from India: Preliminary Results of the Countervailing Duty Administrative Review; 2018-2019, 86 FR 37738 (July 16, 2021) (Preliminary Results), and accompanying Preliminary Decision Memorandum.

² See Memorandum, “Glycine from India: Extension of Time Limit for Final Results of Countervailing Duty Administrative Review,” dated October 21, 2021.

³ See Memorandum, “Countervailing Duty Administrative Review of Glycine from India, 2018-2019: Post-Preliminary Decision,” dated November 16, 2021 (Post-Preliminary Decision).

⁴ See Petitioner's Letter, “Glycine from India: GEO Specialty Chemical's Case Brief,” dated November 29, 2021; Avid's Letter, “Glycine from India: Case Brief—Avid Organic's Pvt. Ltd.,” dated November 29, 2021; and Kumar's Letter, “Certain Glycine from India (C-533-884) Kumar Industries—Case Brief,” dated November 30, 2021.

⁵ See Petitioner's Letter, “Glycine from India: GEO Specialty Chemicals' Rebuttal Brief,” dated December 6, 2021; Avid's Letter, “Glycine from India: Rebuttal Brief—Avid Organics Pvt. Ltd.,” dated December 6, 2021; Kumar's Letter, “Certain Glycine from India (C-533-884) Kumar Industries—Rebuttal Brief,” dated December 6, 2021; and Paras' Letter, “Paras Intermediates Private Limited (“Paras”) Administrative Rebuttal Brief: Countervailing Duty Investigation on Glycine from India,” dated December 6, 2021.

⁶ See Memorandum, “Glycine from India: Issues and Decision Memorandum for the Final Results of Countervailing Duty Administrative Review; 2018-2019,” dated concurrently with, and hereby adopted by, this notice (Issues and Decision Memorandum).

Scope of the Order

The merchandise covered by the order is glycine from India. For the complete description of the scope of the order, see the Issues and Decision Memorandum.

Analysis of Comments Received

All issues raised in interested parties' briefs are addressed in the Issues and Decision Memorandum. A list of the issues raised by interested parties, and to which Commerce responded in the Issues and Decision Memorandum, is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.

Changes Since the Preliminary Results

Based on our review and analysis of the comments received from parties, we made certain changes to the net subsidy rates calculated for Avid and Kumar, and for companies not selected for individual review. These changes are explained in the Issues and Decision Memorandum.

Methodology

Commerce is conducting this review in accordance with section 751(a)(l)(A) of the Tariff Act of 1930, as amended (the Act). For each of the subsidy programs found countervailable, we find that there is a subsidy, i.e., a government-provided financial contribution that gives rise to a benefit to the recipient, and the subsidy is specific.⁷ For a full description of the methodology underlying all of Commerce's conclusions, see the Issues and Decision Memorandum.

⁷ See sections 771(5)(B) and (D) of the Act regarding financial contribution; section 771(5)(E) of the Act regarding benefit; and section 771(5A) of the Act regarding specificity.

Companies Not Selected for Individual Review

For the companies not selected for individual examination, because the rates calculated for Avid and Kumar are above de minimis and not based entirely on facts available, we applied a subsidy rate based on a weighted-average of the subsidy rates calculated for Avid and Kumar using publicly ranged sales data submitted by the respondents.⁸ This is consistent with the methodology that we would use in an investigation to establish the all-others rate, pursuant to section 705(c)(5)(A) of the Act.

⁸ See Memorandum, “Final Results Calculation of Subsidy Rate for Non-Examined Companies Under Review,” dated concurrently with this notice.

Final Results of Administrative Review

We determine the following net countervailable subsidy rates for the period September 4, 2018, through December 31, 2019:

Company | 2018 Subsidy rate (percent ad valorem) | 2019 Subsidy Rate (percent ad valorem)
Avid Organics Private Limited | 5.01 | 5.16
Kumar Industries (India) | 11.81 | 3.75
Mulji Mehta Enterprises | 3.92 | 4.35
Mulji Mehta Pharma | 3.92 | 4.35
Paras Intermediates Private Limited | 3.92 | 4.35
Rudraa International | 3.92 | 4.35
Studio Disrupt | 3.92 | 4.35

Disclosure

Commerce will disclose to the parties in this proceeding the calculations performed for these final results of review within five days of the date of publication of this notice in the Federal Register, in accordance with 19 CFR 351.224(b).

Assessment Rates

Pursuant to 19 CFR 351.212(b)(2), Commerce will determine, and U.S. Customs and Border Protection (CBP) shall assess, countervailing duties on all appropriate entries of subject merchandise in accordance with the final results of this review, for the above-listed companies at the applicable ad valorem assessment rates listed. Commerce intends to issue assessment instructions to CBP no earlier than 35 days after the date of publication of the final results of this review in the Federal Register.⁹ If a timely summons is filed at the U.S. Court of International Trade, the assessment instructions will direct CBP not to liquidate relevant entries until the time for parties to file a request for a statutory injunction has expired (i.e., within 90 days of publication).

⁹ See Notice of Discontinuation of Policy to Issue Liquidation Instructions After 15 days in Applicable Antidumping and Countervailing Duty Administrative Proceedings, 86 FR 3995 (January 15, 2021).

Cash Deposit Requirements

In accordance with section 751(a)(1) of the Act, Commerce intends to instruct CBP to collect cash deposits of estimated countervailing duties in the amounts shown for each of the companies listed above on shipments of subject merchandise entered, or withdrawn from warehouse, for consumption on or after the date of publication of the final results of this administrative review. For all non-reviewed firms, Commerce will instruct CBP to continue to collect cash deposits of estimated countervailing duties at the most recent company-specific or all-others rate applicable to the company, as appropriate. These cash deposit requirements, effective upon publication of these final results, shall remain in effect until further notice.

Administrative Protective Order

This notice serves as a reminder to parties subject to administrative protective order (APO) of their responsibility concerning the destruction of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

We are issuing and publishing these final results in accordance with sections 751(a)(1) and 777(i)(1) of the Act.

Dated: January 12, 2022.
Lisa W. Wang,
Assistant Secretary for Enforcement and Compliance.

Appendix

List of Topics Discussed in the Issues and Decision Memorandum

I. Summary

II. Background

III. Scope of the Order

IV. Rate for Non-Examined Companies Under Review

V. Changes Since the Preliminary Results

VI. Subsidies Valuation

VII. Analysis of Programs

VIII. Analysis of Comments

Comment 1: Calculation of a Single Rate for the Period of Review Covering 2018 and 2019

Comment 2: Application of Adverse Facts Available (AFA) to Kumar

Comment 3: Pre- and Post-Shipment Finance Program: Interest Rate Benchmark for Kumar

Comment 4: Interest Equalization Scheme on Pre- and Post-Shipment Rupee-Denominated Export Credit Program: Sales Denominator for Kumar

Comment 5: Duty Drawback Program: Benefit Calculation for Avid

Comment 6: Interest Subsidy Under Scheme for Assistance of Micro, Small, and Medium-sized Enterprises (MSMEs) as per Gujarat Industrial Policy 2009: Benefit Calculation for Avid

Comment 7: Export Promotion Capital Goods Scheme: Benefit Calculation for Avid

IX. Recommendation

[FR Doc. 2022-00954 Filed 1-18-22; 8:45 am]

BILLING CODE 3510-DS-P